Title 3—

The President

Executive Order 13191 of January 17, 2001

Implementation of the African Growth and Opportunity Act and the United States-Caribbean Basin Trade Partnership Act

By the authority vested in me as President by the Constitution and the laws of the United States of America, including the African Growth and Opportunity Act (Title I of Public Law 106-200) (AGOA), the United States-Caribbean Basin Trade Partnership Act (Title II of Public Law 106-200) (CBTPA), the Caribbean Basin Economic Recovery Act (19 U.S.C. 2701 et seq.), and section 301 of title 3, United States Code, and in order to expand international trade and enhance our economic partnership with sub-Saharan Africa and the Caribbean Basin, promote investment and economic development and reduce poverty in those regions, and create new economic opportunities for American workers and businesses, it is hereby ordered as follows:

Part I—Implementation of the AGOA

Section 1. Apparel Articles Assembled from Fabrics or Yarn Not Available in Commercial Quantities. The Committee for the Implementation of Textile Agreements (the “Committee”) is authorized to exercise the authority vested in the President under section 112(b)(5)(B)(i) of the AGOA (19 U.S.C. 3721(b)(5)(B)(i)) to determine whether yarns or fabrics cannot be supplied by the domestic industry in commercial quantities in a timely manner. The Committee shall establish procedures to ensure appropriate public participation in any such determination. The Committee and the United States Trade Representative (USTR) are jointly authorized to exercise the authority vested in the President under sections 112(b)(5)(B)(ii), (iii), and (v) of the AGOA (19 U.S.C. 3721(b)(5)(B)(ii), (iii), and (v)) to obtain advice from the appropriate advisory committee, to submit a report to the appropriate Congressional committees, and to consult with those Congressional committees. The USTR is authorized to exercise the authority vested in the President under section 112(b)(5)(B)(ii) of the AGOA to obtain advice from the U.S. International Trade Commission (USITC).

Sec. 2. Handloomed, Handmade, and Folklore Articles. The Committee, after consultation with the Commissioner, United States Customs Service (Commissioner), is authorized to exercise the authority vested in the President under section 112(b)(6) of the AGOA (19 U.S.C. 3721(b)(6)) to consult with beneficiary sub-Saharan African countries and to determine which, if any, particular textile and apparel goods shall be treated as being handloomed, handmade, or folklore articles. The Commissioner shall take such actions to carry out any such determination as directed by the Committee.

Sec. 3. Certain Interlinings. The Committee is authorized to exercise the authority vested in the President under section 112(d)(1)(B)(iii) of the AGOA (19 U.S.C. 3721(d)(1)(B)(iii)) to determine whether U.S. manufacturers are producing interlinings in the United States in commercial quantities. The Committee shall establish procedures to ensure appropriate public participation in any such determination. The determination or determinations of the Committee under this section shall be set forth in a notice or notices that the Committee shall cause to be published in the Federal Register. The Commissioner shall take such actions to carry out any such determination as directed by the Committee.

Sec. 4. Penalties for Transshipments. The Committee, after consultation with the Commissioner, is authorized to exercise the authority vested in the President under section 113(b)(3) of the AGOA (19 U.S.C. 3722(b)(3)) to determine, based on sufficient evidence, whether an exporter has engaged in transshipment and to deny for a period of 5 years all benefits under section 112 of the AGOA (19 U.S.C. 3721) to any such exporter, any successor of such exporter, and any other entity owned or operated by the principal of such exporter. The determination or determinations of the Committee under this section shall be set forth in a notice or notices that the Committee shall cause to be published in the Federal Register. The Commissioner shall take such actions to carry out any such determination as directed by the Committee.

Sec. 5. Effective Visa Systems. Pursuant to sections 112(a) and 113(a)(1) of the AGOA (19 U.S.C. 3721(a) and 3722(a)(1)), the USTR is authorized to direct the Commissioner to take such actions as may be necessary to ensure that textile and apparel articles described in section 112(b) of the AGOA (19 U.S.C. 3721(b)) that are entered, or withdrawn from warehouse, for consumption are accompanied by an appropriate export visa, if the preferential treatment described in section 112(a) of the AGOA is claimed with respect to such articles.

Part II—Implementation of the CBTPA

Sec. 6. Apparel Articles Assembled from Fabrics or Yarn Not Available in Commercial Quantities. The Committee is authorized to exercise the authority vested in the President under section 213(b)(2)(A)(v)(II)(aa) of the CBERA (19 U.S.C. 2703(b)(2)(A)(v)(II)(aa)), as added by section 211(a) of the CBTPA, to determine whether yarns or fabrics cannot be supplied by the domestic industry in commercial quantities in a timely manner. The Committee shall establish procedures to ensure appropriate public participation in any such determination. The Committee and the USTR are jointly authorized to exercise the authority vested in the President under sections 213(b)(2)(A)(v)(II)(bb), (cc), and (ee) of the CBERA (19 U.S.C. 2703(b)(2)(A)(v)(II)(bb), (cc), and (ee)), as added by section 211(a) of the CBTPA, to obtain advice from the appropriate advisory committee, to submit a report to the appropriate Congressional committees, and to consult with those Congressional committees. The USTR is authorized to exercise the authority vested in the President under section 213(b)(2)(A)(v)(II)(bb) of the CBERA to obtain advice from the USITC.

Sec. 7. Certain Interlinings. The Committee is authorized to exercise the authority vested in the President under section 213(b)(2)(A)(vii)(II)(cc) of the CBERA (19 U.S.C. 2703(b)(2)(A)(vii)(II)(cc)), as added by section 211(a) of the CBTPA, to determine whether U.S. manufacturers are producing interlinings in the United States in commercial quantities. The Committee shall establish procedures to ensure appropriate public participation in any such determination. The determination or determinations of the Committee under this section shall be set forth in a notice or notices that the Committee shall cause to be published in the Federal Register. The Commissioner shall take such actions to carry out any such determination as directed by the Committee.

Sec. 8. Handloomed, Handmade, and Folklore Articles. The Committee, after consultation with the Commissioner, is authorized to exercise the authority vested in the President under section 213(b)(2)(C) of the CBERA (19 U.S.C. 2703(b)(2)(C)), as added by section 211(a) of the CBTPA, to consult with representatives of CBTPA beneficiary countries for the purpose of identifying particular textile and apparel goods that are mutually agreed upon as being handloomed, hand made, or folklore goods within the meaning of that section. The Commissioner shall take such actions to carry out any such determination as directed by the Committee.

Sec. 9. Penalties for Transshipments. The Committee, after consultation with the Commissioner, is authorized to exercise the authority vested in the President under section 213(b)(2)(D) of the CBERA (19 U.S.C. 2703(b)(2)(D)), as added by section 211(a) of the CBTPA, to determine, based on sufficient evidence, whether an exporter has engaged in transshipment and, if transshipment has occurred, to deny all benefits under the CBTPA to any such exporter, and any successor of such exporter, for a period of 2 years; to request that any CBTPA beneficiary country through whose territory transshipment has occurred take all necessary and appropriate actions to prevent such transshipment; and to impose the penalty provided in section 213(b)(2)(D)(ii) of the CBERA on a CBTPA beneficiary country if the Committee determines that such country is not taking such actions. The determination or determinations of the Committee under this section shall be set forth in a notice or notices that the Committee shall cause to be published in the Federal Register. The Commissioner shall take such actions to carry out any such determination as directed by the Committee.

Sec. 10. Bilateral Emergency Tariff Actions. The Committee is authorized to exercise the authority vested in the President under section 213(b)(2)(E) of the CBERA (19 U.S.C. 2703(b)(2)(E)), as added by section 211(a) of the CBTPA, to take bilateral emergency tariff actions, if the Committee determines that the conditions provided in section 213(b)(2)(E) of the CBERA are satisfied. The Committee shall establish procedures to ensure appropriate public participation in any such determination. The determination or determinations of the Committee under this section shall be set forth in a notice or notices that the Committee shall cause to be published in the Federal Register. The Commissioner shall take such actions to carry out any such bilateral emergency tariff action as directed by the Committee.

Part III—General Provisions

Sec. 11. Judicial Review. This order does not create any right or benefit, substantive or procedural, enforceable at law or equity by a party against the United States, its agencies, its officers, or any person.

wj

THE WHITE HOUSE,

January 17, 2001.

[FR Doc. 01-2014

Filed 1-19-01; 8:45 am]

Billing code 3195-01-P